DEPARTMENT OF ENERGY

Federal Energy Regulatory Commission

[Project No. 2146-111; Project No. 82-000; Project No. 618-000]

Alabama Power Company, Notice of Availability of The Draft Supplemental Environmental Impact Statement for The Coosa River Hydroelectric Project

In accordance with the National Environmental Policy Act of 1969 and the Federal Energy Regulatory Commission's (Commission) regulations, 18 CFR part 380, the Office of Energy Projects has reviewed the application for a single new license for three currently separately licensed projects and has prepared a draft supplemental environmental impact statement (SEIS).¹ The single new operating license would combine the Coosa Hydroelectric Project (FERC No. 2146), which consists of the Weiss, H. Neely Henry, Logan Martin, Lay, and Bouldin developments, the Mitchell Dam Hydroelectric Project (FERC No. 82), and the Jordan Dam Hydroelectric Project (FERC No. 618) as one 960.9-megawatt (MW) project, the Coosa River Hydroelectric Project (Coosa River Project) No. 2146. The projects are located on the Coosa River, in the states of Alabama and Georgia, and occupy about 508.31 acres of federal land administered by the U.S. Bureau of Land Management and 5.75 acres of federal land administered by the U.S. Army Corps of Engineers.

¹ On July 16, 2020, the Council on Environmental Quality (CEQ) issued a final rule, Update to the Regulations Implementing the Procedural Provisions of the National Environmental Policy Act (Final Rule, 85 FR 43304), which was effective as of September 14, 2020; however, the NEPA review of this project was in process at that time and was prepared pursuant to CEQ's 1978 NEPA regulations.

The draft SEIS has been prepared to address the July 6, 2018 opinion issued by the United States Court of Appeals for the District of Columbia (court) regarding the Commission's environmental review of the Coosa River Project, and supplements the final environmental assessment (FEA), issued December 31, 2009, for the project. The draft SEIS focuses on the following issues identified by the court as needing further analysis and expands upon the analysis contained within the FEA for these issues: (1) Dissolved oxygen; (2) fish entrainment and turbine mortality; (3) federally listed threatened and endangered species; and (4) cumulative effects. The draft SEIS describes staff's analysis of the applicant's proposal and the alternatives for relicensing the project. The draft SEIS documents the views of governmental agencies, non-governmental organizations, affected Indian tribes, the public, the license applicant, and Commission staff.

The Commission provides all interested persons with an opportunity to view and/or print the draft SEIS via the internet through the Commission's Home Page (http://www.ferc.gov/), using the “eLibrary” link. Enter the docket number, excluding the last three digits in the docket number field, to access the document. At this time, the Commission has suspended access to the Commission's Public Reference Room, due to the proclamation declaring a National Emergency concerning the Novel Coronavirus Disease (COVID-19), in a Presidential proclamation issued on March 13, 2020. For assistance, contact FERC Online Support at FERCOnlineSupport@ferc.gov, or toll-free at (866) 208-3676, or for TTY, (202) 502-8659.

You may also register online at http://www.ferc.gov/docs-filing/esubscription.asp to be notified via email of new filings and issuances related to this or other pending projects. For assistance, contact FERC Online Support.

Due to concerns with large gatherings related to COVID-19, we do not intend to conduct public meetings for the purpose of receiving comments on the draft SEIS. Instead, we are soliciting written comments, which must be filed within 60 days of this notice.

The Commission strongly encourages electronic filing. Please file comments using the Commission's eFiling system at https://www.ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2146-111.

Anyone may intervene in this proceeding based on this draft SEIS (18 CFR 380.10). You must file your request to intervene as specified above.² You do not need intervenor status to have your comments considered.

² Interventions may also be filed electronically via the internet in lieu of paper. See the previous discussion on filing comments electronically.

For further information, please contact Aaron Liberty at (202) 502-6862 or at aaron.liberty@ferc.gov.

Dated: June 17, 2021.
Kimberly D. Bose,
Secretary.

[FR Doc. 2021-13298 Filed 6-23-21; 8:45 am]

BILLING CODE 6717-01-P